ENVIRONMENTAL PROTECTION AGENCY

[FRL-8928-5]

Cross-Media Electronic Reporting Rule State Authorized Program Revision/Modification Approvals: State of Indiana

AGENCY: Environmental Protection Agency (EPA).

ACTION: Notice.

SUMMARY: This notice announces EPA's approval, under regulations for Cross-Media Electronic Reporting, of the State of Indiana's request to revise/modify programs to allow electronic reporting for certain of its EPA-authorized programs under title 40 of the CFR.

DATES: EPA's approval is effective on July 15, 2009 for the State of Indiana's EPA-authorized programs under 40 CFR parts 52, 60-63, 70, 123, 272, and 282; and on August 14, 2009 for the State of Indiana's Part 142 authorized program, if no timely request for a public hearing is received and accepted by the Agency.

FOR FURTHER INFORMATION CONTACT: Evi Huffer, U.S. Environmental Protection Agency, Office of Environmental Information, Mail Stop 2823T, 1200 Pennsylvania Avenue, NW., Washington, DC 20460, (202) 566-1697, huffer.evi@epa.gov, or David Schwarz, U.S. Environmental Protection Agency, Office of Environmental Information, Mail Stop 2823T, 1200 Pennsylvania Avenue, NW., Washington, DC 20460, (202) 566-1704, schwarz.david@epa.gov. All requests for a hearing should be submitted to both of the above contacts.

SUPPLEMENTARY INFORMATION: On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR, requires that State, Tribal or local government agencies that receive, or wish to begin receiving, electronic reports under their EPA-authorized programs must apply to EPA for a revision or modification of those programs and get EPA approval. Subpart D provides standards for such approvals based on consideration of the electronic document receiving systems that the State, Tribe, or local government will use to implement the electronic reporting. Additionally, in § 3.1000(b) through (e) of 40 CFR part 3, subpart D provides special procedures for program revisions and modifications to allow electronic reporting, to be used at the option of the State, Tribe or local government in place of procedures available under existing program-specific authorization regulations. An application submitted under the subpart D procedures must show that the State, Tribe or local government has sufficient legal authority to implement the electronic reporting components of its authorized programs covered by the application and will use electronic document receiving systems that meet the applicable subpart D requirements.

On October 2, 2008, the State of Indiana Department of Environmental Management (IDEM) submitted an application for its eAuth electronic document receiving System for revision or modification of EPA-authorized programs under 40 CFR parts 52, 60-63, 70, 123, 142, 272, and 282. EPA reviewed IDEM's request to revise/modify its EPA-authorized programs and, based on this review, EPA determined the application met the standards for approval of authorized program revisions/modifications set out in 40 CFR part 3, subpart D. In accordance with 40 CFR 3.1000(d), this notice of EPA's decision to approve Indiana's request for revision/modification to certain of its authorized programs is being published in the Federal Register.

Specifically, EPA has approved IDEM's request for revisions/modifications to the following of its authorized programs to allow electronic reporting under 40 CFR parts 51, 60-63, 70, 122-124, 141, 262, 264-266, 268, 270, and 280:

• Part 52—Approval and Promulgation of Implementation Plans;

• Part 60—Standards of Performance For New Stationary Sources;

• Part 61—National Emission Standards For Hazardous Air Pollutants;

• Part 62—Approval and Promulgation of State Plans for Designated Facilities and Pollutants;

• Part 63—National Emission Standards For Hazardous Air Pollutants For Source Categories;

• Part 70—State Operating Permit Programs;

• Part 123—State Program Requirements (National Pollutant Discharge Elimination System Permit Program);

• Part 142—National Primary Drinking Water Regulations Implementation;

• Part 272—Approved State Hazardous Waste Management Programs; and

• Part 282—Approved Underground Storage Tank Programs.

IDEM was notified of EPA's determination to approve its application with respect to the authorized programs listed above in a letter dated July 2, 2009.

Also, in today's notice, EPA is informing interested persons that they may request a public hearing on EPA's action to approve the State of Indiana's request to revise its authorized public water system program under 40 CFR part 142, in accordance with 40 CFR 3.1000(f). Requests for hearings must be submitted to EPA within 30 days of publication of today's Federal Register notice. Such requests should include the following information:

(1) The name, address and telephone number of the individual, organization or other entity requesting a hearing;

(2) A brief statement of the requesting person's interest in EPA's determination, a brief explanation as to why EPA should hold a hearing, and any other information that the requesting person wants EPA to consider when determining whether to grant the request;

(3) The signature of the individual making the request, or, if the request is made on behalf of an organization or other entity, the signature of a responsible official of the organization or other entity.

Dated: July 2, 2009.
Lisa Schlosser,
Director, Office of Information Collection.

[FR Doc. E9-16839 Filed 7-14-09; 8:45 am]

BILLING CODE 6560-50-P